FEDERAL EMERGENCY MANAGEMENT AGENCY

Agency Information Collection Activities: Proposed Collection; Comment Request

ACTION: Notice and request for comments.

SUMMARY: The Federal Emergency Management Agency, as part of its continuing effort to reduce paperwork and respondent burden, invites the general public and other Federal agencies to take this opportunity to comment on proposed continuing information collections. In accordance with the Paperwork Reduction Act of 1995 (44 U.S.C. 3506(c)(2)(A)), this notice seeks comments concerning a continuing collection of information for personal property loss or damage claims made by FEMA employees.

SUPPLEMENTARY INFORMATION: 31 U.S.C 3721 requires employees of FEMA who file a claim with the Agency for the loss or damage to personal property to substantiate the claim as a condition of payment by the agency. Agency personnel provide information to support their claims against FEMA for personal property damage incident to their service. The Agency's substantiation requirements are set forth in 44 CFR 11.76. The information provided by personnel is used by FEMA to determine the appropriate disposition and payment of claims.

Collection of Information

Title: Claims of Federal Personnel for Personal Property Loss or Damage.

Type of Information Collection: Extension of a currently approved collection.

OMB Number: 3067-0167.

Form Numbers: None.

Abstract: 31 U.S.C 3721 requires FEMA employees who file a claim with the Agency for the loss or damage to personal property to substantiate their claims as a condition of payment by the agency. Agency personnel provide information to make claims against FEMA for personal property damage incident to their service. The Agency's substantiation requirements are set forth at 44 CFR 11.76. The information provided by personnel is used by FEMA to determine the appropriate disposition and payment of claims.

Affected Public: Federal Government.

Estimated Total Annual Burden Hours: 7.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Section, Program Services and Systems Branch, Facilities and Services Management Division, Administration and Resource Planning Directorate, Federal Emergency Management Agency, 500 C Street, SW, Room 316, Washington, DC 20472.

FOR FURTHER INFORMATION CONTACT: Contact Edward Broyles, General Attorney, FEMA Office of General Counsel, (202) 646-3961, for additional information. You may contact Ms. Muriel B. Anderson for copies of the proposed collection of information at telephone number (202) 646-2625 or facsimile number (202) 646-3347 or e-mail muriel.anderson@fema.gov.

Dated: March 20, 2002.
Reginald Trujillo,
Chief, Program Services and Systems Branch, Facilities and Services Management Division, Administration and Resource Planning Directorate.

[FR Doc. 02-7638 Filed 3-28-02; 8:45 am]

BILLING CODE 6718-01-P